NATIONAL ARCHIVES AND RECORDS ADMINISTRATION

[NARA-2015-019]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize agencies to preserve records of continuing value in the National Archives of the United States and to destroy, after a specified period, records lacking administrative, legal, research, or other value. NARA publishes notice for records schedules in which agencies propose to destroy records not previously authorized for disposal or reduce the retention period of records already authorized for disposal. NARA invites public comments on such records schedules, in accordance with 44 U.S.C. 3303a(a).

DATES: NARA must receive written requests for copies of the records schedules listed in this notice on or before January 22, 2015. Once NARA has completed appraisal of the records, we will send you a copy of the schedule. NARA staff usually prepare appraisal memoranda that contain additional information concerning the records listed in a proposed schedule. You may also ask for copies of these in your request. You will have 30 days after NARA sends you a records schedule to submit comments on it.

ADDRESSES: You may request a copy of any records schedule listed in this notice by contacting Records Management Services (ACNR) by mail at NARA (ACNR); 8601 Adelphi Road; College Park, MD 20740-6001, by email at request.schedule@nara.gov, or by fax at 301-837-3698. You must cite the control number, which appears below in parentheses after the name of the agency which submitted the schedule, and you must provide a mailing address. If you would like appraisal reports as well, please state that in your request.

FOR FURTHER INFORMATION CONTACT: Margaret Hawkins, Director, Records Management Services, by mail at National Archives and Records Administration (ANCR); 8601 Adelphi Road; College Park, MD 20740-6001, by telephone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. Once approved, these schedules give the agency appropriate times by which to transfer historically valuable records into the National Archives and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless otherwise specified. Media-neutral means that the agency may apply the disposition instructions to records regardless of the medium in which the records are created and maintained. Items included in schedules submitted to NARA on or after December 17, 2007, are media-neutral unless the item is specifically limited to a certain medium (see 36 CFR 1225.12(e)).

No Federal records may be destroyed without authorization granted by the Archivist of the United States through an approved records schedule. The Archivist grants destruction authority only after a thorough consideration of the agency of origin's administrative use of the records, the rights of the Government and of people directly affected by the Government's activities, and the records' historical or other value.

This notice identifies the Federal agencies and any subdivisions requesting disposition authority and the organizational unit(s) accumulating the records—or agency-wide applicability in the case of records that may be accumulated throughout an agency. This notice also lists the control number assigned to each schedule, the total number of schedule items, the number of temporary items (records proposed for destruction), and a brief description of the temporary records.

The records schedules themselves contain a full description of the records at the file unit level as well as their disposition. If NARA staff has prepared an appraisal memorandum for a schedule, it, too, includes information about the covered records. You may request additional information about the disposition process from the contact listed above.

Schedules Pending

1. Department of the Army, Agency-wide (DAA-AU-2014-0033, 1 item, 1 temporary item). Master files of an electronic information system that contains information used to create personnel-type orders.

2. Department of the Army, Agency-wide (DAA-AU-2015-0004, 1 item, 1 temporary item). Master files of an electronic information system that contains financial, acquisition, and personnel data used to make equipment life cycle management decisions.

3. Department of the Army, Agency-wide (DAA-AU-2015-0005, 1 item, 1 temporary item). Master files of an electronic information system that contains equipment maintenance data including equipment name, serial and stock numbers, and location.

4. Department of the Army, Agency-wide (DAA-AU-2015-0006, 1 item, 1 temporary item). Master files of an electronic information system that contains facilities and equipment maintenance data including work orders, repair tickets, and labor reports.

5. Department of Commerce, National Telecommunications and Information Administration (DAA-0417-2014-0001, 1 item, 1 temporary item). Spectrum frequency assignment cards, including frequency number, transmitter location, and application and authorization dates.

6. Department of Defense, Office of the Secretary of Defense (DAA-0220-2013-0001, 5 items, 2 temporary items). Records related to Department of Defense commemorative programs including administrative files and Web site administrative files. Proposed for permanent retention are program files, including reports, meeting minutes, newsletters, and related records; program Web site content files of unique electronic documents; and photographs, videos, and films.

7. Department of Defense, Defense Finance and Accounting Service (DAA-0507-2015-0001, 1 item, 1 temporary item). Reports and other records of situations, incidents, and natural disasters.

8. Department of Defense, Defense Logistics Agency (DAA-0361-2015-0003, 5 items, 5 temporary items). Records relating to the Family, Morale, Welfare, and Recreation Program including marketing, advertisement, and sponsorship files.

9. Department of Energy, Agency-wide (DAA-0434-2015-0002, 1 item, 1 temporary item). Master files of an electronic information system used to track routine personnel actions.

10. Department of Energy, Agency-wide (DAA-0434-2015-0003, 2 items, 2 temporary items). Master files of an electronic information system used to track and manage internal learning and development programs.

11. Department of Health and Human Services, Agency-wide (DAA-0512-2014-0006, 4 items, 3 temporary items). Records of the National Practitioner Data Bank, including query transactions, compliance and research files, and dispute resolution case files. Proposed for permanent retention are reports providing a comprehensive history of actions taken against health care practitioners, suppliers, and providers.

12. Department of Health and Human Services, Medicaid and CHIP Payment and Access Commission (N1-148-15-1, 11 items, 5 temporary items). Administrative records documenting policy analysis and health services research related to Medicaid and the Children's Health Insurance Program. Records include general program correspondence and working papers, drafts of publications, records related to public meetings, and web content. Records proposed for permanent retention include reports to Congress, congressional testimony, letters commenting on proposed regulations, documentation of public meetings, official publications, and executive correspondence of the chair, vice chair, executive director, and deputy director.

13. Department of Health and Human Services, National Institutes of Health (DAA-0443-2013-0004, 4 items, 4 temporary items). Records that document the extramural research program, including grant applications, grant files, grant final products, progress reports, status reports, site visit reports, monitoring records, training records, and animal welfare assurance files.

14. Department of Homeland Security, Agency-wide (DAA-0563-2013-0003, 8 items, 7 temporary items). Social media records of the Department and its component agencies including updates, tips, public service campaigns, and copies of speech or testimony records. Proposed for permanent retention are records of original content posted by an authorized Department representative.

15. Department of Homeland Security, U.S. Citizenship and Immigration Services (DAA-0566-2014-0005, 2 items, 2 temporary items). Documents, booklets, cards, and forms granting immigration benefits that were flawed, undeliverable, not claimed, returned to the agency, or expired, including naturalization and citizenship certificates, legal permanent resident cards, re-entry permits, and employment authorization documents.

16. Department of the Interior, Bureau of Ocean Energy Management (N1-589-12-4, 46 items, 40 temporary items). Records include energy and mineral leasing adjudication and administration records. Proposed for permanent retention are lease maps, strategic five-year program plans, environmental studies, and renewable energy program records.

17. Department of Justice, Office of Tribal Justice (DAA-0060-2014-0006, 1 item, 1 temporary item). Routine informational correspondence from tribal governments.

18. Department of the Navy, Judge Advocate General (DAA-0428-2014-0001, 2 items, 2 temporary items). Master files of an electronic information system that contains personnel assignment information.

19. Department of the Navy, U.S. Marine Corps (DAA-0127-2014-0022, 1 item, 1 temporary item). Master files of an electronic information system that contains contact information on individuals who may have been exposed to contaminated drinking water at Marine Corps Base Camp Lejeune.

20. Environmental Protection Agency, Agency-wide (DAA-0412-2013-0015, 5 items, 4 temporary items). Controls and oversight records, including audits of laboratories, animal welfare assurance records, Inspector General audits and investigations (except for significant case files), and program activity evaluation reports. Proposed for permanent retention are Inspector General semiannual reports to Congress, significant Inspector General investigative case files, and Audit Resolution Board case files.

21. Environmental Protection Agency, Agency-wide (DAA-0412-2013-0016, 3 items, 2 temporary items). Legal services records, including records related to legal representation of the agency in challenges to regulations, disputes over contracts and grants, bid protest cases, tort claims, alternative dispute resolution cases, and other legal matters. Proposed for permanent retention are legal opinions related to environmental law and regulations.

22. Library of Congress, Agency-wide (DAA-0297-2014-0017, 27 items, 25 temporary items). Records of the Copyright Office and Copyright Royalty Board, including records relating to copyright registration, ownership and designation of agent, copyright deposit and mandatory deposit, royalty payments and non-royalty arrangements, and Copyright Royalty Board proceedings. Proposed for permanent retention are promulgated copyright legislation and final versions of copyright legal opinions, policy statements, and rulemaking records not published in the Federal Register.

23. National Aeronautics and Space Administration, Agency-wide (DAA-0255-2014-0002, 2 items, 2 temporary items). Records of the Chief Information Officer, including system compliance records and system administrative management records.

24. National Aeronautics and Space Administration, Agency-wide (DAA-0255-2014-0003, 2 items, 1 temporary item). Legal opinions and advice records created by the Office of the General Counsel and Center Office of the Chief Counsel. Proposed for permanent retention are legal opinions and advice records that set precedents or have a major impact on operations or policies.

25. National Archives and Records Administration, Research Services (N2-234-13-1, 1 item, 1 temporary item). Records of the Metal Reserves Corporation and the Rubber Reserve Company of the Reconstruction Finance Corporation including ledgers and contracts relating to production and shipping activities. These records were accessioned to the National Archives but lack sufficient historical value to warrant continued preservation.

26. Peace Corps, Overseas Posts (N1-490-12-2, 7 items, 3 temporary items). Records include routine recruiting materials and project plans. Proposed for permanent retention are high level governance and operational documents of overseas posts.

Dated: December 15, 2014.
Paul M. Wester, Jr.,
Chief Records Officer for the U.S. Government.

[FR Doc. 2014-30030 Filed 12-22-14; 8:45 am]

BILLING CODE 7515-01-P